DEPARTMENT OF JUSTICE

[AAG/A ORDER NO. 004-2004]

Privacy Act of 1974; System of Records

Pursuant to the provisions of the Privacy Act of 1974 (5 U.S.C. 552a), notice is given that the Department of Justice proposes to establish a new system of records entitled “Leave Sharing Systems,” Justice/DOJ-010. The purpose of publishing this Department-wide notice is to record voluntary requests made by employees to either donate or receive annual leave, due to a medical emergency that requires an absence from work which will result in substantial loss of income to the employee. This Privacy Act notice covers both the Voluntary Leave Transfer Program and the Voluntary Leave Bank Program.

In accordance with 5 U.S.C. 552a(e) (4) and (11), the public is given a 30-day period in which to comment, and the Office of Management and Budget (OMB), which has oversight responsibility under the Act, requires a 40-day period in which to conclude its review of the system. Therefore, please submit any comments by May 26, 2004. The public, OMB, and the Congress are invited to submit any comments to Mary E. Cahill, Management and Planning Staff, Justice Management Division, Department of Justice, Washington, DC, 20530 (Room 1400, National Place Building).

In accordance with 5 U.S.C. 552a(r), the Department has provided a report to OMB and the Congress.

Dated: April 16, 2004.
Paul R. Corts,
Assistant Attorney General for Administration.

DEPARTMENT OF JUSTICE

SYSTEM NAME:

Leave Sharing Systems, JUSTICE/DOJ-010.

SECURITY CLASSIFICATION:

Not classified.

SYSTEM LOCATIONS:

Systems are maintained by designated Leave Transfer Coordinators throughout the Department of Justice (DOJ), Human Resources Offices, with the exception of the Leave Bank Coordinator, whose system is located at the following address: U.S. Department of Justice, Justice Management Division, 1331 Pennsylvania Ave., NW., Suite 1110, Washington, DC 20530. The Leave Transfer Coordinators' system location is shown in this notice under the Systems Managers and Addresses.

CATEGORIES OF INDIVIDUALS COVERED BY THE SYSTEM:

Individuals covered by the Voluntary Leave Transfer Program (VLTP) are current employees (recipients and donors) of the DOJ, and employees in other Federal agencies who make voluntary leave donations to or receive voluntary leave donations from DOJ employees, excluding employees of the Federal Bureau of Investigations (FBI), Central Intelligence Agency, Defense Intelligence Agency, National Security Agency or any other Executive Agency or unit thereof, as determined by the President, whose principal function is the conduct of foreign intelligence or counterintelligence activities.

Individuals covered by the Voluntary Leave Bank Program (VLBP) are current employees of the DOJ, excluding the FBI and Executive Office for U.S. Trustees.

CATEGORIES OF RECORDS IN THE SYSTEM:

Records maintained in the Voluntary Leave Transfer (VLT) system include two categories of records: Recipient records—VLT Recipient application, medical records, time and attendance report, and related comments; and Donor records—Authorization to Transfer Leave application, time and attendance report, and related comments.

Records maintained in the Voluntary Leave Bank (VLB) system include two categories of records: Recipient records—VLB Recipient application, medical records, time and attendance report, and related comments; and Donor records—Request for Leave or Approved Absence (SF-71), time and attendance report, and related comments.

AUTHORITY FOR MAINTENANCE OF THE SYSTEM:

Title 5, United States Code, Chapter 63, Subchapter III; 5 United States Code, Part 630, Subpart I and J; Public Law 103-103, the Federal Employees Leave Sharing Amendments Act of 1993.

PURPOSE OF THE SYSTEM:

The Voluntary Leave Transfer and Leave Bank systems record and track donor and recipient leave or medical records to assist employees without available paid leave with medical or family emergencies that require an absence from duty. The VLTP covers employees who experience medical emergencies, as well as employees who are caring for family members who are experiencing medical emergencies. The VLBP works in conjunction with the existing VLTP in the Department. The Leave Bank accepts membership contributions of annual leave, and makes that leave available to qualified members who experience medical emergencies.

ROUTINE USES OF RECORDS MAINTAINED IN THE SYSTEM, INCLUDING CATEGORIES OF USERS AND THE PURPOSES OF SUCH USES:

Pursuant to subsection (b) (3) of the Privacy Act, information may be disclosed from this system as follows:

A. To a Member of Congress or staff acting upon the Member's behalf when the Member or staff requests the information on behalf and at the request of an individual who is the subject of the record.

B. To the National Archives and Records Administration in records management inspections conducted under the authority of 44 U.S.C. 2904 and 2906.

C. In an appropriate proceeding before a court, grand jury, or administrative or adjudicative body, when the DOJ determines that the records are arguably relevant to the proceeding; or in an appropriate proceeding before an administrative or adjudicative body when the adjudicator holds the records to be relevant to the proceeding.

D. To an actual or potential party to litigation or the party's authorized representative for the purpose of negotiation or discussion on such matters as settlements, plea bargaining, or in informal discovery proceedings.

E. To contractors, grantees, experts, consultants, students, and others performing or working on a contract, service, grant, cooperative agreement, or other assignment for the Federal Government, when necessary to accomplish an agency function related to this system of records.

F. To designated timekeepers to adjust employees' leave balances.

G. To designated Leave Bank Board members to administer donated leave, review recipients' applications, and make decisions on appeals.

H. To the Office of Personnel Management to evaluate the effectiveness of the program.

I. Where a record, either on its face or in conjunction with other information, indicates a violation or potential violation of law—criminal, civil, or regulatory in nature—the relevant records may be referred to the appropriate federal, state, local, foreign, or tribal, law enforcement authority or other appropriate agency charged with the responsibility of investigating or prosecuting such a violation or enforcing or implementing such law.

J. To appropriate officials and employees of a federal agency or entity which requires information relevant to a decision concerning the hiring, appointment, or retention of an employee; the issuance, renewal, suspension, or revocation of a security clearance; the execution of a security or suitability investigation; the letting of a contract; or the issuance of a grant or benefit.

K. The Department of Justice may disclose relevant and necessary information to a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

DISCLOSURE TO CONSUMER REPORTING AGENCIES:

Not Applicable.

POLICIES AND PRACTICES FOR STORING, RETRIEVING, ACCESSING, RETAINING, AND DISPOSING OF RECORDS IN THE SYSTEM:

STORAGE:

Applications and medical records are stored in paper files. Time and attendance records are stored in an automated system. Paper files are stored in secured areas.

RETRIEVABILITY:

Information is retrieved by employee name, Social Security number, or report generated by an automated system.

SAFEGUARDS:

Safeguard measures include the use of secured areas, user identification and passwords with restricted access to data, and envelopes which appropriately identify the sensitive nature of the enclosed information.

RETENTION AND DISPOSAL:

Records are retained and disposed of in accordance with the General Records Schedule 1, Civilian Personnel Records. They are destroyed one year after the end of the year in which the file is closed.

SYSTEM MANAGER(S) AND ADDRESS:

Leave Bank System Manager: Director, Personnel Staff, Justice Management Division, 1331 Pennsylvania Ave., NW, Suite 1110, Washington, DC 20530.

Leave Transfer System Managers:

Leave Transfer Coordinator:

Antitrust Division, Executive Officer, 601 D Street, NW, Rm. 10150, Washington, DC 20004

Civil Division, Director, Office of Administration, 1100 L Street, NW, Rm. 9018, Washington, DC 20530

Civil Rights Division, Executive Officer, 1425 New York Ave., NW, Rm. 5058, Washington, DC 20530

Criminal Division, Executive Officer, Office of Administration, 1400 New York Ave., NW, Rm. 5000, Washington, DC 20530

Environmental and Natural Resources Division, Executive Officer, 601 D Street, NW, Rm. 2038, Washington, DC 20004

Tax Division, Executive Officer, 601 D Street, NW, Rm. 7802, Washington, DC 20004

Drug Enforcement Administration, Deputy Assistant Administrator for Personnel, 700 Army Navy Drive, Rm. W3166, Arlington, VA 22202

Executive Office for Immigration Review, Office of the General Counsel, Employee and Labor Relations Unit, 5107 Leesburg Pike, Suite 2400, Falls Church, VA 22041

Executive Office for United States Attorneys, Personnel Staff, 600 E Street, NW, Room 8017, Washington, DC 20530

Executive Office for United States Trustees, Human Resource Division, 20 Massachusetts Ave., NW, Rm. 8209, Washington, DC 20530

Federal Bureau of Prisons, Human Resource Management Division, Labor Management Relations and Security Branch, 320 1st Street, NW, Bldg. 400, Washington, DC 20534

Office of Justice Programs, Office of Administration, Director, Office of Personnel, 810 7th Street, NW, Rm. 3330, Washington, DC 20531

United States Marshals Service Headquarters, Washington, DC 20530-1000

Office of the Inspector General, Personnel Officer, 1425 New York Ave., NW, Suite 7000, Washington, DC 20530

Bureau of Alcohol, Tobacco, Firearms and Explosives, Personnel Division, Employee and Labor Relations Team, 650 Massachusetts Ave., NW, Rm. 4300, Washington, DC 20010

Other Offices, Boards, and Divisions: Director, Human Resources, Justice Management Division, 1331 Pennsylvania Ave., NW, Suite 1110, Washington, DC 20530

NOTIFICATION PROCEDURE:

Address inquiries to System Managers named above.

RECORD ACCESS PROCEDURES:

Requests for access to records from the system must be in writing to the System Manager, and be clearly marked “Privacy Act Access Request.” The request should include the component where the records reside, if known (generally, the employing component), and must include the requestor's name, title, organization, address, phone number and a general description and purpose of records sought, and must include the requestor's full name, current address, and date and place of birth. The request must be signed and dated and either notarized or submitted under penalty of perjury. Records will be released in accordance with the Freedom of Information Act, as well as the Privacy Act.

CONTESTING RECORD PROCEDURES:

Individuals desiring to contest or amend information maintained in the system should direct their request to the System Manager listed above, stating clearly and concisely what information is being contested, the reasons for contesting it, and the proposed amendment to the information sought. Please include the information requested in “Record Access Procedures” above.

RECORD SOURCE CATEGORIES:

Sources of information include employees who make written requests for application to the leave sharing programs, including supporting documentation, such as time and attendance records and medical records.

EXEMPTIONS CLAIMED FOR THE SYSTEM:

None.

[FR Doc. 04-9292 Filed 4-23-04; 8:45 am]

BILLING CODE 4410-CG-P